DEPARTMENT OF HOMELAND SECURITY

Transportation Security Administration

Intent To Request Approval From OMB of One New Public Collection of Information: Law Enforcement Officers (LEOs) Flying Armed

AGENCY: Transportation Security Administration, DHS.

ACTION: 60-Day notice.

SUMMARY: The Transportation Security Administration (TSA) invites public comment on a new Information Collection Request (ICR) abstracted below that we will submit to the Office of Management and Budget (OMB) for approval in compliance with the Paperwork Reduction Act (PRA). The ICR describes the nature of the information collection and its expected burden. The collection involves gathering information from state, local and tribal armed law enforcement officers (LEOs) who require specialized screening at the checkpoint.

DATES: Send your comments by September 25, 2018.

ADDRESSES: Comments may be emailed to TSAPRA@tsa.dhs.gov or delivered to the TSA PRA Officer, Information Technology (IT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

TSA has broad statutory authority to assess a security risk for any mode of transportation, develop security measures for dealing with that risk, and enforce compliance with those measures.¹

¹ See 49 U.S.C. 114.

TSA's mission includes the screening of individuals, accessible property, checked baggage, and cargo before boarding or loading on an aircraft to prevent or deter the carriage of any explosive, incendiary, or deadly or dangerous weapon on an aircraft. Under 49 CFR 1540.107, individuals are required to submit to screening and inspection before entering a sterile area of an airport or boarding an aircraft. The prohibition on carrying a weapon, however, does not apply to LEOs required to carry a firearm or other weapons while in the performance of law enforcement duties at the airport. See 49 CFR 1540.111(b). In addition, LEOs may fly armed if they meet the requirements of 49 CFR 1544.219. This section includes requirements for authorization to carry the weapon; training for flying armed; validation of the need for the weapon; notification requirements; prohibition related to consuming alcohol, and appropriation location of the weapon.

TSA has established a specialized screening process for State, local, and tribal LEOs when they are flying armed and need to go through screening at the checkpoint. When this situation will occur, LEOs are required to complete TSA Form 413A, Checkpoint Sign-In Log.

Purpose and Description of Data Collection

The information collected on TSA Form 413A includes identifying information on the LEOs; an affirmation that they are authorized to fly armed on official business and that they have an operational need to have their weapon accessible during the flight in accordance with 49 CFR part 1544; and identification of weapons they are carrying.

The information required by this form is used by the TSA Security Operations Center and the Law Enforcement/Federal Air Marshals Service in order to have situational awareness of armed law enforcement officer(s) presence on flights conducted by 49 CFR parts 1544 and/or 1546 regulated parties (aircraft operators and foreign air carriers). This real-time situational awareness is necessary in the event of a contingency on board the aircraft; such as but not limited to, a disruptive passenger, air piracy, or other threat to the safety and security of a commercial aircraft.

Respondents to this collection are State, local, and tribal police officers travelling with their weapons. TSA uses historical data to estimate 68,000 average annual responses. Each check-in requires filling out a log book and TSA estimates this activity requires one minute (0.0167 hours) to complete. TSA estimates this collection will place an annual average hour burden of 1,133 hours on the public.

Use of Results

TSA will use the information to have situational awareness of the presence of armed LEOs on flights conducted by 49 CFR parts 1544 and/or 1546 regulated parties (aircraft operators and foreign air carriers).

Dated: July 23, 2018.
Christina A. Walsh,
TSA Paperwork Reduction Act Officer, Information Technology.

[FR Doc. 2018-16042 Filed 7-26-18; 8:45 am]

BILLING CODE 9110-05-P